DEPARTMENT OF LABOR

Employment and Training Administration

Notice of Determinations Regarding Eligibility To Apply for Worker Adjustment Assistance and NAFTA Transitional Adjustment Assistance

In accordance with Section 223 of the Trade Act of 1974, as amended, the Department of Labor herein presents summaries of determinations regarding eligibility to apply for trade adjustment assistance for workers (TA-W) issued during the period of April 2003.

In order for an affirmative determination to be made and a certification of eligibility to apply for worker adjustment assistance to be issued, each of the group eligibility requirements of Section 222 of the Act must be met.

(1) That a significant number or proportion of the workers in the workers' firm, or an appropriate subdivision thereof, have become totally or partially separated, or are threatened to become totally or partially separated; and

(2) That sales or production, or both, of the firm or sub-division have decreased absolutely, and

(3) That increases of imports of articles like or directly competitive with articles produced by the firm or appropriate subdivision have contributed importantly to the separations, or threat thereof, and to the absolute decline in sales or production of such firm or subdivision.

Negative Determinations for Worker Adjustment Assistance

In each of the following cases the investigation revealed that criterion (3) has not been met. A survey of customers indicated that increased imports did not contribute importantly to worker separations at the firm.

None.

In the following case, the investigation revealed that the criteria for eligibility have not been met for the reasons specified.

The investigation revealed that criterion (a)(2)(A)(I.B) (no sales or production decline and (a)(2)(B)(II.B) (no shift in production to a foreign country) have not been met.

TA-W-51,256; Westinghouse Electric Co., Nuclear Fuel Specialty Metals Plant, Blairsville, PA

The investigation revealed that criterion (a)(2)(A)(I.C.) (increased imports) and (a)(2)(B)(II.B) (no shift in production to a foreign country) have not been met.

TA-W-51,464; Fishing Vessel (F/V) Chasina Bay, Ketchikan, AK

TA-W-51,221; Colfax Corp., Industrial Clutch Div., Waukesha, WI

TA-W-51,213; MKS Instruments, Colorado Facility, Colorado Springs, CO

TA-W-50,876; Mechanical Products Co., LLC, Aerospace Div., Jackson, MI

TA-W-50,899; Fishing Vessel (F/V) Rhonda K, Monosassa, FL

TA-W-50,958; Rodman Industries, Marinette, WI

TA-W-51,028; Pliant Corp., Merced, CA—“Workers engaged in employment related to the production of winwrap-stretch film.”

TA-W-51,136; Wing-Lynch, Inc., Beaverton, OR

TA-W-50,856; Schlumberger Oilfield Services, Webster, TX

TA-W-50,215; Greystone, Inc./Phode Island Tool Co., Providence, RI

TA-W-50,502; Cable Warehouse, Denver, CO

TA-W-50,786; Pure Resources, Inc., Midland, TX

TA-W-50,073; Collins & Aikman Automotive Systems, Marshall, MI

TA-W-50,551; The Hayes Co., Inc., Wichita, KS

TA-W-50,586; Fishing Vessel (F/V) Renaissance, Kodiak, AK

TA-W-50,758; Fishing Vessel (F/V) Maryna J. Naknek, AK

TA-W-51,076; Key Plastics, LLC, Chesterfield Div., Chesterfield, MI

TA-W-51,254; NAPCO, Inc., Butler, PA

TA-W-51,361; Sisiutl Fisheries, Kodiak, AK

The workers firm does not produce an article as required for certification under Section 222 of the Trade Act of 1974.

TA-W-51,467; Sunshine Traders of El Paso, LLC, El Paso, TX

TA-W-51,385; Actiontec Electronics, Inc., Colorado Springs, CO

TA-W-51,362; Client Logic, Buffalo, NY

TA-W-51,139; Embraer Aircraft Customer Services, Inc., Ft. Worth, TX

TA-W-51,144; International Business Machines Corp. (IBM), IBM Global Services Div., Greensboro, NC Pittsfield, MA

TA-W-51,171; SAP America, Inc., a wholly-owned subsidiary of SAP AG, Customer Interaction Center, Newtown Square, PA

TA-W-51,177; Kelly Services, Inc., Newtown Square, PA

TA-W-50,848; Strategic Distributions, Inc., Lenoir, NC

TA-W-51,008; IBM Corp., Server Group Development, Beaverton, OR

TA-W-51,125; Symantec Corp., Beaverton, OR

TA-W-51,173; Ericsson, Inc., Brea, CA

TA-W-51,268; Hamilton Beach/Proctor Silex, Inc., a subsidiary of NACCO Industries, Inc. El Paso Distribution Center, El Paso, TX

TA-W-51,288l Kyocera Tycom Corp., Arden Hill, MN

TA-W-51,368; Mellon Bank, N.A., Pittsburgh, PA

TA-W-51,399; Axis/Salant Corp., Culver City, CA

TA-W-51,440; ASML Albuquerque, Albuquerque, NM

The investigation revealed that criterion (a)(2)(A)(I.A) (no employment declines) have not been met.

TA-W-51,423; State of Alaska Commercial Fisheries Entry Commission Permit #S) 4K57565P, Kodiak, AK

TA-W-51,167; Fishing Vessel Midnight Cove, Kodiak Island, AK

TA-W-51,425; Fishing Vessel (F/V) Sunset, Cross Sound, AK

TA-W-51,238; Fishing Vessel (F/V) Artic Nomad, Naknek, AK

TA-W-51,409; Showcase Glass, Post Falls, ID

The investigation revealed that criterion (a)(2)(A)(I.B) (sales or production, or both did not decline) and (a)(2)(A)(II.B) (no shift in production to a foreign country) have not been met.

TA-W-50,838; Fishing Vessel (F/V) Windy Sea, Kodiak, AK

TA-W-51,234; HP Pelzer, Thompson, GA

The investigation revealed that criterion (a)(2)(A)(I.C.) (Increased imports) and (a)(2)(B) (No shift in production to a foreign country) have not been met.

TA-W-50,945; Chem-Fab Corp., Hot Springs, AR

The investigation revealed that criteria (2) has not been met. The workers firm (or subdivision) is not a supplier or downstream producer to trade-affected companies.

TA-W-51,230; Vanguard EMS, Inc., a/k/a Viasystems Portland, Inc., Beaverton, OR

TA-W-51,153; Esteves—DWD, LLC, Danville, KY

Affirmative Determinations for Worker Adjustment Assistance

The following certifications have been issued; the date following the company name and location of each determination references the impact date for all workers of such determination.

None.

The following certifications have been issued. The requirements of (a)(2)(A) (increased imports) of Section 222 have been met.

TA-W-51,003; Plexus Corp., San Diego Electronic Assembly, Poway, CA: February 26, 2002.

TA-W-51,402; Geiger Bros., Inc., Lewiston, ME: March 31, 2002.

TA-W-51,353; Interlake Material Handling, Inc., Lodi California Plant, Lodi, CA: March 20, 2002.

TA-W-51,187; Thermal Arc, Inc., Troy, OH: March 7, 2002.

TA-W-51,260; L.L. Bean Manufacturing, a Div. of L.L. Bean, Inc., Brunswick, ME: March 7, 2002.

TA-W-50,923; Gretag Imaging, Inc., including temporary workers of Agentry, Holyoke, MA: February 1, 2002.

TA-W-51,096; DCB Corp., Madisonville, TN: February 26, 2002.

TA-W-51,121; Anchor Hocking Corp., Mirro Corporation Div., Manitowoc, WI: February 7, 2002.

TA-W-51,159; Zosel Lumber Co., Oroville, WA: March 11, 2002.

TA-W-50,560; Crown Pacific, Gilchrist, Or: October 11, 2002.

TA-W-50,614; Entronix International, Inc., Formerly Auto Sound Companies, Eveleth, MN: January 16, 2002.

TA-W-50,815; Nexans Magnet Wire USA, Inc., Mexico, MO: February 4, 2002.

TA-W-51,150; Logan Stampings, Inc., Logansport, IN: March 11, 2002.

TA-W-50,914; Air products & Chemicals, Inc., Chemicals Div., Cumberland, RI: February 3, 2002.

TA-W-51,232; Lees Curtain Co., Inc., Thayer, MO: March 5, 2002.

TA-W-51,022; Fellowes, Inc., Itasca, IL: February 21, 2002.

TA-W-51,119; Worzalla Publishing Co., Stevens Point, WI: March 17, 2002.

The following certifications have been issued. The requirements of (a)(2)(B) (shift in production) of Section 222 have been met.

TA-W-51,356; Howden Buffalo, Inc., Springfield, IL: March 28, 2002.

TA-W-50,868 & A; Ge-Ray Fabrics, Morganville, NJ & Lustar Dye and Finishing, Ashville, NC: February 26, 2002.

TA-W-51,396; Nabco, Inc., Reed City, Operations, Reed City, MI: April 2, 2002.

TA-W-51,339; Wellsville Firebrick Co., a subsidiary of National Refractories and Minerals Co., a subsidiary of National Refractories Holding Co., Wellsville, MO: March 26, 2002.

TA-W-51,445; Fishing Vessel (F/V), Jesse & Merle, Dillingham, AK: April 3, 2002.

TA-W-51,309; State of Alaska Commercial Fisheries Entry Commission Permit #SO4T57353U, Manokotak, AK: March 21, 2002.

TA-W-51,311; State of Alaska Commercial Fisheries Entry Commission Permit #S04T64983X, Manokotak, AK: March 21, 2002.

TA-W-51,337 & A; National Refractories and Minerals Corp., a subsidiary of National Refractories Holding Co., Columbiana, OH, Headquarters of National Refractories Holding Co., Livermore, CA: March 26, 2002.

TA-W-51,245; National Refractories and Minerals Corp., a subsidiary of National Refractories Holding Co., Mexico, MO: March 16, 2002.

TA-W-51,348; Fields & Sons, Inc., Kodiak, AK: March 25, 2002.

TA-W-51,346; State of Alaska Commercial Fisheries Entry Commission Permit #SO4T59802F, Dillingham, AK: March 24, 2002.

TA-W-51,381; Vishay Micro-Measurements, Wendell, NC: December 13, 2001.

TA-W-51,272; Erasteel, Inc., McKeesport, PA: March 21, 2002.

TA-W-51,291; U.S. Cotton, LLC, Valley Park, MO: March 14, 2002.

TA-W-51,304; State of Alaska Commercial Fisheries Entry Commission Permit #S04T58837L, Manokotak, AK: March 21, 2002.

TA-W-51,307; State of Alaska Commercial Fisheries Permit #S04T62119A, Manokotak, AK: March 21, 2002.

TA-W-51,010 and A; Ethan Allen, Inc., Mayville, NY and Union City, PA: February 25, 2002.

TA-W-50,526; Sanmina-SCI Corp., West Liberty, KY: January 3, 2002.

TA-W-51,287; Vision Teq, Inc., a subsidiary of Electroline, Inc., including workers of the Former Owner Lamson and Sessions, Inc., Ft. Lauderdale, FL: March 24, 2002.

TA-W-51,292; Hamilton Sundstrand Denver, a Div. of Hamilton Sundstrand Corp., Denver, CO: March 24, 2002.

TA-W-51,299; Ametek, Inc., Dixson Div., including leased workers of SOS Staffing Services, Grand Junction, CO: April 18, 2003.

TA-W-51,359; Fishing Vessel (F/V) Kiavak, State of Alaska Commercial Fisheries Entry Commission Permit #S01E62046X and S01K59455A, Kodiak, AK: March 18, 2002.

TA-W-51,413; Silvered Electronic Mico Co., Inc. (SEMCO), Willimantic, CT: March 24, 2002.

TA-W-50,620; Youngstown Forge, Youngstown, OH: January 21, 2002.

TA-W-51,027; Crescent Lighting (Genlyte-Thomas), Supply Div., Barrington, NJ: February 28, 2002.

TA-W-51,075; Philips Semiconductor, San Antonio Wafer Fab Div., a subsidiary of Royal Philips Electronics, NV, San Antonio, TX: March 3, 2002.

TA-W-51,148; Torque-Traction Manufacturing Technologies, Syracuse, IN: February 25, 2002.

TA-W-51,028; Pliant Corp., Merced, CA: February 27, 2002.

All workers engaged in employment related to the production of P.V.C. food film, who became totally or partially separated from employment on or after February 27, 2002 are eligible to apply for trade adjustment assistance under Section 223 of the Trade Act of 1974.

Also, pursuant to Title V of the North American Free Trade Agreement Implementation Act (P.L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of April 2003.

In order for an affirmative determination to be made and a certification of eligibility to apply for NAFTA-TAA the following group eligibility requirements of Section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely,

(3) That imports from Mexico or Canada of articles like or directly competitive with articles produced by such firm or subdivision have increased, and that the increased imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

None.

The investigation revealed that the criteria for eligibility have not been met for the reasons specified.

The investigation revealed that the workers of the subject firm did not produce an article within the meaning of Section 250(a) of the Trade Act, as amended.

None.

Affirmative Determinations NAFTA-TAA

None.

I hereby certify that the aforementioned determinations were issued during the month of April 2003. Copies of these determinations are available for inspection in Room C-5311, U.S. Department of Labor, 200 Constitution Avenue, NW., Washington, DC 20210 during normal business hours or will be mailed to persons who write to the above address.

Dated: April 22, 2003.
Timothy F. Sullivan,
Director, Division of Trade Adjustment Assistance.

[FR Doc. 03-10751 Filed 4-30-03; 8:45 am]

BILLING CODE 4510-30-P